DEPARTMENT OF TRANSPORTATION

Office of the Secretary

[Docket No. DOT-OST-2025-0600]

Senior Executive Service Performance Review Board Membership; Correction

AGENCY: Office of the Secretary, Department of Transportation (DOT).

ACTION: Notice of Performance Review Board (PRB) appointments; Correction.

SUMMARY: DOT is correcting a notice published on September 29, 2025, issue of the Federal Registry entitled “Senior Executive Service Performance Review Board Membership”. This notice adds additional individuals that may be selected to serve on one or more Departmental PRBs.

FOR FURTHER INFORMATION CONTACT: Anne Audet, Director, Departmental Office of Human Resource Management (202) 366-2478.

SUPPLEMENTARY INFORMATION: Correction—The persons named below are additional individuals that may be selected to serve on one or more Departmental PRBs.

(Authority: 5 U.S.C. 4314(c)(4))

Issued in Washington, DC on October 1, 2025.
Anne B. Audet,
Director, Departmental Office of Human Resource Management.

DEPARTMENT OF TRANSPORTATION

FEDERAL MOTOR CARRIER SAFETY ADMINISTRATION

BARR, DEREK

GREAT LAKES ST. LAWRENCE SEAWAY DEVELOPMENT CORPORATION

MCCOSHEN, JAMES, MIKE

NATIONAL HIGHWAY TRAFFIC SAFETY ADMINISTRATION

TERRY, JANE

OFFICE OF THE SECRETARY OF TRANSPORTATION

CRAWFORD, JAMES

OZ, SEVAL

RUTHERFORD, MICAHEL

WHITE, LEE

WINDRAM, LESLIE

PIPELINE AND HAZARDOUS MATERIALS SAFETY ADMINISTRATION

ROBERTI, PAUL

[FR Doc. 2025-19925 Filed 11-14-25; 8:45 am]

BILLING CODE 4910-9X-P